DEPARTMENT OF COMMERCE

National Oceanic and Atmospheric Administration

RIN 0648-XD374

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of the Reef Fish Advisory Panel.

DATES: The meeting will be held from 8 a.m. until 5 p.m. on Tuesday, July 29, 2014.

ADDRESSES: The meeting will be held at the Council's office.

Council address: Gulf of Mexico Fishery Management Council, 2203 North Lois Avenue, Suite 1100, Tampa, FL, 33607.

FOR FURTHER INFORMATION CONTACT: Dr. Carrie Simmons, Deputy Executive Director, Gulf of Mexico Fishery Management Council; telephone: (813) 348-1630; fax: (813) 348-1711; email: carrie.simmons@gulfcouncil.org.

SUPPLEMENTARY INFORMATION: The items of discussion on the agenda are as follows:

1. Adoption of Agenda

2. Election of Chair and Vice-chair

3. Approval of August 6-7, 2012 minutes

4. Action Guide

5. SEDAR 33 Stock Assessments Gag and Greater Amberjack—SSC Recommendations and Council Actions AP recommendations

6. Possible Greater Amberjack Size Limit and Closed Season Changes AP recommendations

7. Possible Red Grouper Bag Limit and Accountability Measure Changes AP recommendations

8. Update on Joint South Florida Management Options AP recommendations

9. Discussion of MRIP Methodology to Monitor Recreational Landings AP recommendations

10. Review SEDAR Assessment Schedule

11. Review and Evaluate the Role of Reef Fish AP

12. Other Business

For meeting materials see folder named “Reef Fish AP meeting 07-29-2014” on Gulf Council file server. To access the file server, the URL is https://public.gulfcouncil.org:5001/webman/index.cgi, or go to the Council's Web site and click on the FTP link in the lower left of the Council Web site (http://www.gulfcouncil.org). The username and password are both “gulfguest”.

The Agenda is subject to change, and the latest version will be posted on the Council's file server, which can be accessed by going to the Council Web site at http://www.gulfcouncil.org and clicking on FTP Server under Quick Links. The meetings will be webcast over the internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: July 8, 2014.
Tracey L. Thompson,
Acting Deputy Director, Office of Sustainable Fisheries, National Marine Fisheries Service.

[FR Doc. 2014-16216 Filed 7-10-14; 8:45 am]

BILLING CODE 3510-22-P